DEPARTMENT OF COMMERCE

National Oceanic and Atmospheric Administration

15 CFR Part 922

RIN 0648-BD97

Proposed Expansion, Regulatory Revision and New Management Plan for the Public Hearings

AGENCY: Office of National Marine Sanctuaries (ONMS), National Ocean Service (NOS), National Oceanic and Atmospheric Administration (NOAA), Department of Commerce (DOC).

ACTION: Notice of public hearings.

SUMMARY: On March 26, 2015, NOAA published a proposed rule in the Federal Register proposing to expand the boundaries and scope of the Hawaiian Islands Humpback Whale National Marine Sanctuary (HIHWNMS) (80 FR 16224). This document adds two additional hearings to the public hearings listed in the proposed rule. The end of the scoping period remains June 19, 2015.

DATES: NOAA will accept public comments on the notice of proposed rulemaking published at 80 FR 16224 (March 26, 2015), the draft environmental impact statement, and draft management plan through June 19, 2015.

ADDRESSES: The instructions for submitting comments are detailed in the proposed rule published on March 26, 2015 (80 FR 16224). You may submit comments on this document, identified by NOAA-NOS-2015-0028, by any of the following methods:

• Electronic Submission: Submit all electronic public comments via the Federal e-Rulemaking Portal. Go to www.regulations.gov/#!docketDetail;D=NOAA-NOS-2015-0028, click the “Comment Now!” icon, complete the required fields, and enter or attach your comments.

• Mail: Public comments may be mailed to Hawaiian Islands Humpback Whale National Marine Sanctuary, NOAA/DKIRC, 1845 Wasp Blvd., Bldg. 176, Honolulu, HI 96818, Attn: Malia Chow, Superintendent.

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. NOAA will accept anonymous comments (enter “N/A” in the required fields if you wish to remain anonymous).

FOR FURTHER INFORMATION CONTACT: Malia Chow, Superintendent, Hawaiian Islands Humpback Whale National Marine Sanctuary at 808-725-5901 or hihwmanagementplan@noaa.gov.

Copies of the draft environmental impact statement and proposed rule can be downloaded or viewed on the Internet at www.regulations.gov (search for docket # NOAA-NOS-2015-0028) or at http://hawaiihumpbackwhale.noaa.gov. Copies can also be obtained by contacting the person identified under FOR FURTHER INFORMATION CONTACT.

SUPPLEMENTARY INFORMATION: In addition to the ten hearings listed in the proposed rule (80 FR 16224) published on March 26, 2015, two public hearings will be held in the following locations at the locales and times indicated:

(1) Waimea, HI (Kaua‘i)

Date: May 5, 2015

Location: Waimea Canyon Middle School Cafeteria

Address: 9555 Huakai Road, Waimea, Hawaii 96796

Time: 5:30 p.m.—8 p.m.

(2) Hilo, HI (Hawai‘i)

Date: May 11, 2015

Location: Mokupāpapa Discovery Center

Address: 76 Kamehameha Avenue, Hilo, HI 96720

Time: 4:30 p.m.—7 p.m.

Authority: 16 U.S.C. 1431 et seq.

Dated: April 21, 2015.
Daniel J. Basta,
Director, Office of National Marine Sanctuaries.

[FR Doc. 2015-10015 Filed 4-28-15; 8:45 am]

BILLING CODE 3510-NK-P